DEPARTMENT OF THE INTERIOR

Bureau of Land Management

[AK-040-07-1610-DP]

Notice of Extension of the Public Comment Period for the Bay Draft Resource Management Plan/Environmental Impact Statement

AGENCY: Bureau of Land Management, Interior.

ACTION: Notice of Extension of the Public Comment Period for the Bay Draft Resource Management Plan/Environmental Impact Statement.

SUMMARY: The Bureau of Land Management (BLM) announces an extension of the public comment period on the Bay Draft Resource Management Plan/Environmental Impact Statement (RMP/EIS). The original notice, issued September 29, 2006, provided for a comment period to end on January 5, 2007. The BLM is extending the comment period until February 5, 2007.

DATES: Written comments on issues relating to the future land use, planning, and management of the Bay planning area must be submitted or postmarked no later than February 5, 2007.

ADDRESSES: Comments on the document should be addressed to Bureau of Land Management, Anchorage Field Office, ATTN: Bay RMP, 6881 Abbott Loop Road, Anchorage, Alaska 99507. Comments can also be submitted to the e-mail box developed for this project at akbayrmp@blm.gov.

FOR FURTHER INFORMATION CONTACT: Ruth McCoard, (800) 478-1263, or by mail at the Anchorage Field Office, 6881 Abbott Loop Road, Anchorage, Alaska 99507.

SUPPLEMENTARY INFORMATION: The original Notice of Availability was published September 29, 2006, and provided for comments on the Bay Draft RMP/EIS to be received through January 5, 2007. Due to unforeseen circumstances, one of the key villages within the Bay planning area asked the BLM to reschedule an open house meeting/subsistence hearing to January 2007. To honor this request and other separate requests for a comment extension, the BLM has decided to extend the comment period by 31 days. Therefore, comments on the Bay Draft RMP/EIS will now be accepted through February 5, 2007.

Dated: December 14, 2006.
Julia Dougan,
Acting State Director.

[FR Doc. E6-22326 Filed 12-28-06; 8:45 am]

BILLING CODE 4310-JA-P